COMMISSION ON CIVIL RIGHTS

Sunshine Act Notice

AGENCY: United States Commission on Civil Rights.

ACTION: Notice of briefing/meeting.

DATE AND TIME: Friday, August 12, 2011; 9:30 a.m. EDT.

PLACE: 624 Ninth Street, NW., Room 540, Washington, DC 20425.

Briefing Agenda

This briefing is open to the public.

Topic: The Civil Rights Implications of Eminent Domain Abuse.

I. Introductory Remarks by Chairman.

II. Speakers' Presentations.

III. Questions by Commissioners and Staff Director.

IV. Adjourn Briefing.

Meeting Agenda

This meeting is open to the public.

I. Approval of Agenda.

II. Approval of the July 15, 2011 Meeting Minutes.

III. Program Planning:

• Approval of the 2011 Enforcement Report.

• Approval of Age Discrimination Briefing Report.

IV. Management and Operations:

• Staff Director's report.

V. State Advisory Committee Issues:

• Re-chartering the Georgia SAC.

• Re-chartering the Oklahoma SAC.

VI. Adjourn.

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven (7) business days before the scheduled date of the meeting.

Dated: August 2, 2011.
Kimberly A. Tolhurst,
Senior Attorney-Advisor.

[FR Doc. 2011-19950 Filed 8-2-11; 4:15 pm]

BILLING CODE 6335-01-P